DEPARTMENT OF HOMELAND SECURITY

U.S. Citizenship and Immigration Services

[OMB Control Number 1615-0052]

Agency Information Collection Activities: Application for Naturalization, Form Number N-400; Revision of a Currently Approved Collection

ACTION: 60-Day notice.

SUMMARY: The Department of Homeland Security (DHS), U.S. Citizenship and Immigration Services (USCIS) invites the general public and other Federal agencies to comment upon this proposed revision of a currently approved collection of information. In accordance with the Paperwork Reduction Act of 1995, the information collection notice is published in the Federal Register to obtain comments regarding the nature of the information collection, the categories of respondents, the estimated burden (i.e. the time, effort, and resources used by the respondents to respond), the estimated cost to the respondent, and the actual information collection instruments.

DATES: Comments are encouraged and will be accepted for sixty days until February 19, 2013.

ADDRESSES: Written comments and suggestions regarding items contained in this notice, and especially with regard to the estimated public burden and associated response time should be directed to DHS using one of the following methods: (1) Via the Federal eRulemaking Portal Web site at www.Regulations.gov under e-Docket ID number USCIS-2008-0025; (2) by email to USCISFRComment@uscis.dhs.gov; or (3) by mail to DHS, USCIS, Office of Policy and Strategy, Chief, Regulatory Coordination Division, 20 Massachusetts Avenue NW., Washington, DC 20529-2140. All submissions received must include the OMB Control Number 1615-0052 in the subject box, the agency name and Docket ID 2008-0025.

Regardless of the method used for submitting comments or material, all submissions will be posted, without change, to the Federal eRulemaking Portal at http://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of http://www.regulations.gov.

Note: The address listed in this notice should only be used to submit comments concerning this information collection. Please do not submit requests for individual case status inquiries to this address. If you are seeking information about the status of your individual case, please check “My Case Status” online at: https://egov.uscis.gov/cris/Dashboard.do, or call the USCIS National Customer Service Center at 1-800-375-5283.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

USCIS continually reviews its information collection tools for accuracy, completeness, and utility and, as a result, the agency is proposing the addition of a number of questions to Form N-400. These additional questions will allow USCIS to make more informed decisions on the eligibility of respondents to the form. Form N-400 is the final information collection activity that occurs before an eligibility determination for naturalization is made. Even if the applicant for naturalization has received a previous immigration benefit from USCIS, the length of time that may have transpired between the initial interaction that the respondent had with USCIS on another immigration benefit request and the filing of the N-400 requires USCIS to verify that actions taken by the respondent during the intervening years do not affect his or her eligibility for naturalization. The form is also updated to examine the inadmissibility grounds that were added by the Intelligence Reform and Terrorism Prevention Act of 2004. Public Law 108-458 (Dec. 17, 2004). USCIS added these questions as required by the agreement reached through a working group comprised of representatives of affected agencies, including the Departments of Justice and State, and U.S. Immigration and Customs Enforcement of DHS. These additional questions are necessary for USCIS to meet the statutory requirements and the President's directive to make a determination that a person is ineligible to naturalize because of his or her past involvement with terrorism, persecution, torture, or genocide. See, Presidential Proclamation—Suspension of Entry as Immigrants and Nonimmigrants of Persons Who Participate in Serious Human Rights and Humanitarian Law Violations and Other Abuses, at http://www.whitehouse.gov/the-press-office/2011/08/04/presidential-proclamation-suspension-entry-immigrants-and-nonimmigrants. Because Form N-400 has changed significantly, the burden estimate in this notice is not based on the experience and observations of actual public usage. USCIS would appreciate and encourages the public's input on the burden estimate so as to provide the most accurate estimate possible.

Overview of This Information Collection

(1) Type of Information Collection: Revision of a Currently Approved Collection.

(2) Title of the Form/Collection: Application for Naturalization.

(3) Agency form number, if any, and the applicable component of the DHS sponsoring the collection: N-400; USCIS.

(4) Affected public who will be asked or required to respond, as well as a brief abstract: Primary: Individuals or households. USCIS uses the information gathered on Form N-400 to make a determination as to a respondent's eligibility to naturalize and become a United States citizen.

(5) An estimate of the total number of respondents and the amount of time estimated for an average respondent to respond: 764,450 respondents with an estimated response per respondent of 6 hours and 55 minutes for the form N-400 and 1 hour and 17 minutes for the biometric processing.

(6) An estimate of the total public burden (in hours) associated with the collection: 7,076,514 Hours.

If you need a copy of the information collection instrument with instructions, or additional information, please visit the Federal eRulemaking Portal site at: http://www.regulations.gov. We may also be contacted at: USCIS, Office of Policy and Strategy, Regulatory Coordination Division, 20 Massachusetts Avenue NW., Washington, DC 20529-2140, Telephone number 202-272-8377.

Dated: December 17, 2012.
Laura Dawkins,
Chief, Regulatory Coordination Division, Office of Policy and Strategy, U.S. Citizenship and Immigration Services, Department of Homeland Security.

[FR Doc. 2012-30673 Filed 12-19-12; 8:45 am]

BILLING CODE 9111-97-P